NATIONAL FOUNDATION ON THE ARTS AND THE HUMANITIES

National Endowment for the Arts; Arts Advisory Panel

Pursuant to section 10(a)(2) of the Federal Advisory Committee Act (Public Law 92-463), as amended, notice is hereby given that six meetings of the Arts Advisory Panel to the National Council on the Arts will be held at the Nancy Hanks Center, 1100 Pennsylvania Avenue, NW., Washington, DC 20506 as follows:

Folk and Traditional Arts (Infrastructure): January 11, 2005, Room 730. A portion of this meeting, from 4:30 p.m. to 5:30 p.m., will be for policy discussion and will be open to the public. The remainder of the meeting, from 9 a.m. to 4:30 p.m. and from 5:30 p.m. to 6:30 p.m., will be closed.

Media Arts (Arts on Radio and Television): January 12-14, 2005, Room 716. This meeting, from 9 a.m. to 6 p.m. on January 12th and 13th, and from 9 a.m. to 5 p.m. on January 14th, will be closed.

Arts Education (Summer Schools in the Arts): January 13-14, 2005, Room 714. A portion of this meeting, from 2 p.m. to 3 p.m. on January 14th, will be for policy discussion and will be open to the public. The remainder of the meeting, from 9 a.m. to 5:30 p.m. on January 13th and from 9 a.m. to 2 p.m. and 3 p.m. to 4 p.m. on January 14th, will be closed.

Partnership (State Partnership Agreements): January 18-19, 2005, Room 716. This meeting, from 9:30 a.m. to 6 p.m. on January 18th, and from 8:30 a.m. to 3:00 p.m. on January 19th, will be open to the public.

AccessAbility (Leadership Initiatives): January 19, 2005, Room 724. This meeting, which will be held by teleconference from 2 p.m. to 4 p.m., will be closed.

Folk and Traditional Arts (National Heritage Fellowships): January 25-28, 2005, Room 716. This meeting, from 9 a.m. to 7 p.m. on January 25th and 26th, from 9 a.m. to 6:30 p.m. on January 27th, and from 9 a.m. to 3:30 p.m. on January 28th, will be closed.

The closed portions of meetings are for the purpose of Panel review, discussion, evaluation, and recommendation on applications for financial assistance under the National Foundation on the Arts and the Humanities Act of 1965, as amended, including information given in confidence to the agency by grant applicants. In accordance with the determination of the Chairman of April 14, 2004, these sessions will be closed to the public pursuant to subsection (c)(6) of 5 U.S.C. 552b.

Any person may observe meetings, or portions thereof, of advisory panels that are open to the public, and if time allows, may be permitted to participate in the panel's discussions at the discretion of the panel chairman.

If you need special accommodations due to a disability, please contact the Office of AccessAbility, National Endowment for the Arts, 1100 Pennsylvania Avenue, NW., Washington, DC 20506, (202) 682-5532, TDY-TDD (202) 682-5496, at least seven (7) days prior to the meeting.

Further information with reference to these meetings can be obtained from Ms. Kathy Plowitz-Worden, Office of Guidelines & Panel Operations, National Endowment for the Arts, Washington, DC 20506, or call (202) 682-5691.

Dated: December 7, 2004.
Kathy Plowitz-Worden,
Panel Coordinator, Panel Operations, National Endowment for the Arts.

[FR Doc. 04-27281 Filed 12-10-04; 8:45 am]

BILLING CODE 7537-01-P